DEPARTMENT OF HEALTH AND HUMAN SERVICES

Centers for Disease Control And Prevention

[60Day-01-09]

Proposed Data Collections Submitted for Public Comment and Recommendations

In compliance with the requirement of section 3506 (c)(2)(A) of the Paperwork reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days.

Proposed Project

A Questionnaire to Assess HIV-prevention Program Activities for Adolescent and School Health Programs—New—National Center for HIV, STD and TB (NCHSTP). The proposed project is an annual web-based questionnaire to report on and to assess HIV-prevention program activities among local and state and territorial education agencies funded by the Division of Adolescent and School Health, Centers for Disease Control and Prevention. The purpose of this request is to obtain OMB clearance to conduct an annual questionnaire focusing on HIV prevention program activities: assistance and training on school HIV policies, assistance and training on HIV curricula and instruction, training on student standards and assessment for HIV prevention, collaboration with external partners, targeting priority populations, planning and improving projects and information about additional activities. There is currently no standardized annual reporting process for HIV prevention activities among local and state education agencies funded by the Division of Adolescent and School Health. Data gathered from this questionnaire will (1) provide standardized information about how HIV prevention funds are used by local and state education agencies, (2) assess the extent to which programmatic adjustments are indicated, (3) determine the collective impact of funded programs, and (4) provide accountability of information for use of public funds. The estimated cost to respondents is $12,819.45 assuming an hourly wage of $26.40 and $22.96 for local and state education agency staff respectively.

Respondents | Number of respondents | Number of responses/ respondent | Burden per respondent (in hrs.) | Total burden (in hrs.)
District Officials | 17 | 1 | 7.2 | 122.4
State & Territorial Officials | 58 | 1 | 7.2 | 417.6
Total |  |  |  | 540.0

Dated: December 15, 2000.
Nancy Cheal,
Acting Associate Director for Policy Planning, and Evaluation, Centers for Disease Control and Prevention (CDC).

[FR Doc. 00-32543 Filed 12-20-00; 8:45 am]

BILLING CODE 4163-18-P